DEPARTMENT OF ENERGY

Federal Energy Regulatory Commission

Combined Notice of Filings #1

Take notice that the Commission received the following electric rate filings:

Docket Numbers: ER14-20-000.

Applicants: PJM Interconnection, L.L.C.

Description: Notice of Cancellation of Original Service Agreement No. 3357, Queue X2-035 to be effective 9/30/2013.

Filed Date: 10/3/13.

Accession Number: 20131003-5138.

Comments Due: 5 p.m. ET 10/24/13.

Docket Numbers: ER14-21-000.

Applicants: Mountain View Solar, LLC.

Description: Mountain View Solar, LLC Application for Market-Based Rates to be effective 11/1/2013.

Filed Date: 10/3/13.

Accession Number: 20131003-5139.

Comments Due: 5 p.m. ET 10/24/13.

Docket Numbers: ER14-22-000.

Applicants: KCP&L Greater Missouri Operations Company.

Description: Depreciation Update Filing to be effective 1/1/2014.

Filed Date: 10/3/13.

Accession Number: 20131003-5153.

Comments Due: 5 p.m. ET 10/24/13.

Docket Numbers: ER14-23-000.

Applicants: Northern States Power Company, a Minnesota Corporation.

Description: 2013-10-3-NSP-MSHL-Repl Meters-564 to be effective 12/2/2013.

Filed Date: 10/4/13.

Accession Number: 20131004-5000.

Comments Due: 5 p.m. ET 10/25/13.

Docket Numbers: ER14-24-000.

Applicants: PJM Interconnection, L.L.C.

Description: Notice of Cancellation of Original Service Agreement No. 2556 of PJM Interconnection, L.L.C. under ER14-24.

Filed Date: 10/3/13.

Accession Number: 20131003-5160.

Comments Due: 5 p.m. ET 10/24/13.

Docket Numbers: ER14-25-000.

Applicants: Prairie Breeze Wind Energy LLC.

Description: Application for Market-Based Rate Authorization to be effective 11/22/2013.

Filed Date: 10/4/13.

Accession Number: 20131004-5012.

Comments Due: 5 p.m. ET 10/25/13.

Docket Numbers: ER14-25-001.

Applicants: Prairie Breeze Wind Energy LLC.

Description: Supplement to October 4, 2013 Market-Based Rate Application to be effective 11/22/2013.

Filed Date: 10/4/13.

Accession Number: 20131004-5017.

Comments Due: 5 p.m. ET 10/25/13.

Docket Numbers: ER14-26-000.

Applicants: Wabash Valley Power Association, Inc.

Description: Amendments to Rate Schedules to be effective 12/5/2013.

Filed Date: 10/4/13.

Accession Number: 20131004-5018.

Comments Due: 5 p.m. ET 10/25/13.

Docket Numbers: ER14-27-000.

Applicants: Southwest Power Pool, Inc.

Description: 1910R1 SPS NITSA and NOA Notice of Cancellation to be effective 1/1/2012.

Filed Date: 10/4/13.

Accession Number: 20131004-5023.

Comments Due: 5 p.m. ET 10/25/13.

Docket Numbers: ER14-28-000.

Applicants: Midcontinent Independent System Operator, Inc.

Description: 10-04-2013 Rate Sch 30 Amended ITCM Joint Pricing Zone Rev to be effective 10/5/2013.

Filed Date: 10/4/13.

Accession Number: 20131004-5036.

Comments Due: 5 p.m. ET 10/25/13.

Docket Numbers: ER14-29-000.

Applicants: ISO New England Inc.

Description: ISO New England Inc. submits EnerNOC Resource Termination under ER14-29.

Filed Date: 10/4/13.

Accession Number: 20131004-5038.

Comments Due: 5 p.m. ET 10/25/13.

Docket Numbers: ER14-30-000.

Applicants: Southern California Edison Company.

Description: Wholesale Distribution Service Agreements with Various Customers to be effective 12/4/2013.

Filed Date: 10/4/13.

Accession Number: 20131004-5056.

Comments Due: 5 p.m. ET 10/25/13.

Take notice that the Commission received the following electric securities filings:

Docket Numbers: ES12-3-001.

Applicants: National Grid USA.

Description: Request for Extension of Existing Authorizations to Issue Securities Under Section 204 of the Federal Power Act of National Grid USA.

Filed Date: 10/4/13.

Accession Number: 20131004-5067.

Comments Due: 5 p.m. ET 10/25/13.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 4, 2013.
Nathaniel J. Davis, Sr.,
Deputy Secretary.

[FR Doc. 2013-24455 Filed 10-11-13; 8:45 am]

BILLING CODE 6717-01-P